DEPARTMENT OF AGRICULTURE

Animal and Plant Health Inspection Service

[Docket No. APHIS-2009-0015]

Notice of Availability of an Evaluation of the Highly Pathogenic Avian Influenza Subtype H5N1 Status of Suffolk and Norfolk Counties in England

AGENCY: Animal and Plant Health Inspection Service, USDA.

ACTION: Notice of availability and request for comments.

SUMMARY: We are advising the public that the Animal and Plant Health Inspection Service has prepared an evaluation of the animal health status of Suffolk and Norfolk Counties, England, relative to the H5N1 subtype of highly pathogenic avian influenza (HPAI). The evaluation presents our assessment of the HPAI H5N1 detection, control, and eradication measures in place in Suffolk and Norfolk Counties, England, during outbreaks of HPAI H5N1 in 2007, as well as our assessment of the present status of Suffolk and Norfolk Counties, England, with respect to HPAI subtype H5N1. We are making this evaluation available to the public for review and comment. If, after the close of the comment period, APHIS can identify no additional risk factors that would indicate that domestic poultry in Suffolk and Norfolk Counties in England continue to be affected with HPAI H5N1, we would conclude that the importation of live birds, poultry carcasses, parts of carcasses, and eggs (other than hatching eggs) of poultry, game birds, or other birds from the affected regions of Suffolk and Norfolk Counties in England presents a low risk of introducing HPAI H5N1 into the United States.

DATES: We will consider all comments that we receive on or before June 8, 2009.

ADDRESSES: You may submit comments by either of the following methods:

• Federal eRulemaking Portal: Go to http://www.regulations.gov/fdmspublic/component/main?main=DocketDetail&d=APHIS-2009-0015 to submit or view comments and to view supporting and related materials available electronically.

• Postal Mail/Commercial Delivery: Please send two copies of your comment to Docket No. APHIS-2009-0015, Regulatory Analysis and Development, PPD, APHIS, Station 3A-03.8, 4700 River Road Unit 118, Riverdale, MD 20737-1238. Please state that your comment refers to Docket No. APHIS-2009-0015.

Reading Room: You may read any comments that we receive on the evaluation in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Ingrid Kotowski, Import Risk Analyst, Regionalization Evaluation Services International, National Center for Import and Export, VS, APHIS, 920 Main Campus Drive, Suite 200, Raleigh, NC 27606; (919) 855-7732.

SUPPLEMENTARY INFORMATION:

Background

Under the Animal Health Protection Act (7 U.S.C. 8301 et seq.), the Animal and Plant Health Inspection Service (APHIS) has the authority to prohibit or restrict the importation into the United States of animals, animal products, and other articles in order to prevent the introduction of diseases and pests into the U.S. livestock and poultry populations.

Highly pathogenic avian influenza (HPAI) is a zoonotic disease of poultry. The H5N1 subtype of HPAI is an extremely infectious and fatal form of the disease. HPAI can strike poultry quickly without any warning signs of infection and, once established, can spread rapidly from flock to flock. HPAI viruses can also be spread by manure, equipment, vehicles, egg flats, crates, and people whose clothing or shoes have come in contact with the virus. HPAI viruses can remain viable at moderate temperatures for long periods in the environment and can survive indefinitely in frozen material. The H5N1 subtype of HPAI has been of particular concern because it has crossed the species barrier and caused disease in humans.

In February 2007, the Chief Veterinary Officer of the United Kingdom of Great Britain and Northern Ireland (UK) reported to the World Organization for Animal Health (OIE) the occurrence of HPAI H5N1 in domestic poultry in Suffolk County, England, near the border with Norfolk County. Emergency response measures implemented by UK animal health authorities included establishing a restricted zone of control measures that encompassed parts of Suffolk and Norfolk Counties.

In November 2007, a second outbreak of HPAI H5N1 was reported to have occurred in domestic poultry in Suffolk County. Animal health authorities in the UK again implemented emergency control measures to prevent the spread of HPAI H5N1 and eradicate it from the domestic poultry population. Additional surveillance revealed no evidence of subsequent cases of HPAI H5N1 in Suffolk or Norfolk County. Accordingly, the emergency measures were lifted on December 19, 2007. On May 12, 2008, the UK formally notified the OIE that the outbreak had been resolved.

To prevent the introduction of HPAI H5N1 into the United States, APHIS added Suffolk and Norfolk Counties to the list of regions that APHIS considers to be affected with HPAI H5N1. This resulted in restriction on the importation of bird, poultry, and bird and poultry products into the United States from those two counties.

In a document titled “Evaluation of the Highly Pathogenic Avian Influenza H5N1 Status of Suffolk and Norfolk Counties, England” (January 2009), we present the results of our evaluation of the status of HPAI H5N1 in domestic poultry in Suffolk and Norfolk Counties, England, in light of the actions taken by UK authorities since the outbreaks, and document our analysis of the risk of HPAI H5N1 introduction and spread in Suffolk and Norfolk Counties, England, and whether removing Suffolk and Norfolk Counties from the list of regions that APHIS considers to be affected with HPAI H5N1 would be appropriate.

We based our evaluation of the HPAI H5N1 status of Suffolk and Norfolk Counties in England, on the following critical factors:

• Suffolk and Norfolk Counties have been free of outbreaks of the H5N1 subtype in its domestic poultry for at least 3 months as a result of effective control measures taken by a competent veterinary infrastructure;

• HPAI H5N1 was a reportable disease in the UK and an ongoing awareness program was in place;

• An effective surveillance program for HPAI that supported the detection and investigation of outbreaks was in place;

• All reported suspected or confirmed cases of avian influenza were investigated;

• The system for recording, managing, and analyzing diagnostic and surveillance data was sufficient to demonstrate the effectiveness of the UK's HPAI H5N1 control measures;

• Diagnostic and laboratory capabilities were effective, and testing procedures were documented and standardized;

• Eradication and control measures, including movement restrictions, were effectively implemented in response to outbreaks to prevent further spread of disease; and

• Procedures used for depopulation cleaning and disinfection of affected premises were documented and effective.

Based on these factors, which are consistent with the OIE's recommendations for reinstatement for trade with a country that has experienced an HPAI H5N1 outbreak,¹ our evaluation concludes that the UK was able to effectively control and eradicate HPAI H5N1 in the domestic poultry population and that the UK authorities have adequate control measures in place to rapidly identify, control, and eradicate the disease should it be introduced into the UK's wild birds or domestic poultry population.

¹ OIE (2008). Risk Analysis. In, Terrestrial Animal Health Code, 17th edition. Paris, World Organization for Animal Health: Chapter 2.2 on Import Risk Analysis; Chapter 10.4 on Avian Influenza. To view the document on the Internet, go to http://www.oie.int/eng/normes/mcode/A_summry.htm?e1d11.

We are making the evaluation available for public comment. We will consider all comments that we receive on or before the date listed under the heading DATES at the beginning of this notice.

If, after the close of the comment period, APHIS can identify no additional risk factors that would indicate that domestic poultry in Suffolk and Norfolk Counties in England continue to be affected with HPAI H5N1, we would conclude that the importation of live birds, poultry carcasses, parts of carcasses, and eggs (other than hatching eggs) of poultry, game birds, or other birds from regions of Suffolk and Norfolk Counties presents a low risk of introducing HPAI H5N1 into the United States.

The evaluation may be viewed on the Regulations.gov Web site or in our reading room (see ADDRESSES above for a link to Regulations.gov and information on the location and hours of the reading room). You may request paper copies of the evaluation by calling or writing to the person listed under FOR FURTHER INFORMATION CONTACT. Please refer to the title of the evaluation when requesting copies.

Done in Washington, DC, this 1st day of May 2009.
Kevin Shea,
Acting Administrator, Animal and Plant Health Inspection Service.

[FR Doc. E9-10630 Filed 5-6-09; 8:45 am]

BILLING CODE 3410-34-P